PEACE CORPS

Submission for OMB Review; Request for Comments

AGENCY: Peace Corps.

ACTION: 30-Day notice and request for comments.

SUMMARY: The Peace Corps will be submitting the following information collection requests to the Office of Management and Budget (OMB) for revision of a currently approved information collection. In compliance with the Paperwork Reduction Act of 1995 (44 U.S.C. Chapter 35), the Peace Corps invites the general public to comment on the revision of a currently approved information collection OMB Control No. 0420-0510: Health History Form (PC-1789) and the Report of Medical Examination also referred to as the Report of Physical Examination (PC-1790S). The Peace Corps seeks to remove the Report of Physical Examination (PC-1790S) from OMB 0420-0510 and request a new OMB Control Number for the Report of Physical Examination (PC-1790S).

DATES: Comments regarding this collection must be received on or before February 27, 2012.

ADDRESSES: Interested persons are invited to submit comments regarding this proposal. Comments should refer to the proposal by name or OMB approval number and should be sent via email to: oira_submission@omb.eop.gov or fax to: (202) 395-3086. Attention: Desk Officer for Peace Corps.

FOR FURTHER INFORMATION CONTACT: Denora Miller, FOIA Officer, Peace Corps, 1111 20th Street NW., Washington, DC 20526, (202) 692-1236, or email at pcfr@peacecorps.gov. Copies of available documents submitted to OMB may be obtained from Denora Miller at address listed above.

SUPPLEMENTARY INFORMATION: The Peace Corps Act states that “[t]he President may enroll in the Peace Corps for service abroad qualified citizens and nationals of the United States (referred to in this Act as “volunteers”). The terms and conditions of the enrollment * * * of volunteers shall be exclusively those set forth in this Act and those consistent therewith which the President may prescribe * * *” 22 U.S.C. 2504(a). Eligibility requirements for the Peace Corps have been prescribed in 22 CFR part 305. Among those eligibility requirements is one relating to medical status. An Applicant “must, with reasonable accommodation, have the physical and mental capacity required of a Volunteer to perform the essential functions of the Peace Corps Volunteer assignment for which he or she is otherwise eligible and be able to complete an agreed upon tour of service, ordinarily two years, without undue disruption due to health problems.” 22 CFR 305.2(c). All applicants for service must undergo a physical examination and a dental evaluation prior to Volunteer service to determine if they meet this medical status eligibility requirement. In addition, under 22 U.S.C. 2504(e), the Peace Corps provides medical care to Volunteers during their service and the information collected will also be used in connection with medical care and treatment during Peace Corps service for applicants who become Volunteers. Finally, the information collected may serve as a point of reference for any potential future Volunteer worker's compensation claims.

Volunteers serve in 67 developing countries where western-style healthcare is often not available. Volunteers are placed in remote locations where they may suffer hardship because they have no access to running water and/or electricity. They also may be placed in locations with extreme environmental conditions related to cold, heat or high altitude and they may be exposed to diseases not generally found in the U.S. Volunteers may be placed many hours from the Peace Corps medical office and not have easy access to any health care provider. Therefore, a thorough examination of an Applicant's medical condition is an essential step to determine their suitability for service in Peace Corps.

Old Title: Peace Corps Volunter Medical Application Health Status Review which now consists of two forms: The Health Status Review form (PC 1789) and the Report of Medical Examination also referred to as the Report of Physical Examination (PC 1790 S).

New Title: Health History Form (PC 1789).

OMB Control Number: 0420-0510.

Type of Information Collection: Revision of a currently approved information collection.

Respondents' obligation to reply: Voluntary.

Burden to the public:

(a) Estimated number of applicants: 10,000/4,000.

(b) Estimated frequency of response: One time.

(c) Estimated average burden per response: 45 minutes.

(d) Estimated total reporting burden: 7,500 hours.

(e) Estimated annual cost to respondents: Indeterminate.

General description of collection: The Health History Form is used to document the medical history of each individual Applicant. It is a self-report of pre-existing medical conditions and is used to help determine whether the Applicant will, with reasonable accommodation, be able to perform the essential functions of a Peace Corps Volunteer and complete a tour of service without undue disruption due to health problems.

The current process requires all Applicants to complete in its entirety a Health Status Review form (OMB form 0420-0510: Peace Corps Form PC-1789). Under the new system, the Applicant will begin the medical part of the application process by completing the Health History Form. The Health History Form will replace OMB form 0420-0510 and is expected to significantly reduce the need for medical office visits and tests. The Health History Form will be completed online in an interactive process in which only questions relevant to each Applicant's medical history (based on responses to previous questions) are presented. After completion of the Health History Form and after passing preliminary non-health-related assessments, the Applicant will be “nominated” to a program. This nomination does not guarantee an invitation to serve, but it does hold a place so the Applicant may proceed with the process. After a review by the Peace Corps pre-service medical staff of the self-reported information on the Health History Form, along with any supplemental forms that the Applicant may be required to submit following nomination, the Applicant may be medically pre-cleared. An Applicant who is medically pre-cleared and who accepts an invitation to serve as a Peace Corps Volunteer undergoes a final medical clearance. Final medical clearance is on the basis of a complete physical examination, as documented in a Report of Physical Examination.

Old Title: Peace Corps Volunter Medical Application Health Status Review which consist of two forms: The Health Status Review form (PC 1789) and the Report of Medical Examination also referred to as the Report of Physical Examination (PC 1790 S).

New Title: Report of Physical Examination (PC 1790 S).

OMB Control Number: 0420-pending.

Type of Information Collection: Revision of a currently approved information collection.

Burden to the public:

(a) Estimated number of applicants/physicians: 4,000/4,000.

(b) Frequency of response: One time.

(c) Estimated average burden per response: 90 minutes/45 minutes.

(d) Estimated total reporting burden: 6,000 hours/3,000 hours.

(e) Estimated annual cost to respondents:Indeterminate.

General description of collection: The current process requires almost all Applicants to undergo a costly and time consuming full medical evaluation. Under the current process, it sometimes happens that after an Applicant has spent large amounts of time and money, the Peace Corps finds that the Applicant is not medically qualified to serve. In 2012, the Peace Corps will change the current process in order to reduce the time and expense of Applicants and to ensure that only those who accept an invitation to serve undergo a complete medical evaluation. However, Applicants who have certain particularly difficult to accommodate conditions will be evaluated early in the process. This will reduce the time and expense for those Applicants who would, even with reasonable accommodation, not be likely to be able to perform the essential functions of a Peace Corps Volunteer and complete a tour of service without undue disruption due to health problems.

Under the new system, the Applicant will begin the medical part of the application process by completing a comprehensive health history form. After completion of the Health History Form and after passing preliminary non-health-related assessments, the Applicant will be “nominated” to a program. This nomination does not guarantee an invitation to serve, but it does hold a place so the Applicant may proceed with the process. After a review by the Peace Corps pre-service medical staff of the Health History Form and any supplemental forms that the Applicant may be required to submit following nomination, the Applicant may be medically pre-cleared. An Applicant who is medically pre-cleared and who accepts an invitation to serve as a Peace Corps Volunteer undergoes a final medical clearance. Final medical clearance is on the basis of a complete physical examination, as documented in a Report of Physical Examination which is covered by this Supporting Statement.

The information contained in the Report of Physical Examination will be used to make an individualized determination as to whether an Applicant for Volunteer service will, with reasonable accommodation, be able to perform the essential functions of a Peace Corps Volunteer and complete a tour of service without undue disruption due to health problems.

Request For Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on January 20, 2012.
Garry W. Stanberry,
Acting Associate Director, Management.

[FR Doc. 2012-1758 Filed 1-26-12; 8:45 am]

BILLING CODE 6051-01-P